OFFICE OF PERSONNEL MANAGEMENT

5 CFR Part 532

RIN 3206-AJ63

Prevailing Rate Systems; Change in Federal Wage System Survey Job

AGENCY: Office of Personnel Management.

ACTION: Proposed rule with request for comments.

SUMMARY: The Office of Personnel Management is issuing a proposed rule that would permit the Department of Defense to survey the Maintenance Mechanic job on an optional basis rather than having to seek OPM's permission when it wants to add that job to appropriated fund wage surveys. Currently, OPM's regulations contain required and optional survey jobs. If a particular job does not appear on either list, but is needed for a survey, an agency must request OPM's written approval. The Federal Prevailing Rate Advisory Committee (FPRAC) established a Survey Job Work Group to review wage survey job descriptions in general, and it recommended making the Maintenance Mechanic job an optional job. The FPRAC agreed with the Work Group's recommendation, which will save time and facilitate the survey process.

DATES: Comments must be received on or before September 3, 2002.

ADDRESSES: Send or deliver comments to Donald J. Winstead, Assistant Director for Compensation Administration, Workforce Compensation and Performance Service, Office of 1 Personnel Management, Room 7H31, 1900 E Street NW., Washington, DC 20415-8200, or FAX: (202) 606-4264.

FOR FURTHER INFORMATION CONTACT: Chenty I. Carpenter, (202) 606-2848, FAX: (202) 606-0824, or e-mail cicarpen@opm.gov.

SUPPLEMENTARY INFORMATION: The Federal Prevailing Rate Advisory Committee (FPRAC), the national labor-management committee responsible for advising the Office of Personnel Management (OPM) on matters concerning the pay of Federal Wage System (FWS) employees, established a Survey Job Work Group (SJWG) to review the survey job descriptions used by Federal agencies during FWS local wage surveys to determine prevailing rates of pay for FWS employees. The SJWG reviewed many FWS jobs and found that the Maintenance Mechanic survey job description should be changed, to better reflect the industry standard wording for the job. The SJWG also decided that it would be beneficial to add the Maintenance Mechanic survey job to the list of optional survey jobs. The SJWG recommended these changes to FPRAC because adding the Maintenance Mechanic survey job to the list of optional jobs would allow the Department of Defense (DOD) the opportunity to survey the job at its discretion, without having to ask OPM for prior approval. This change would allow DOD more planning time when conducting surveys, and the changed job description, when surveyed, may provide DOD with more job matches. FPRAC agreed with the Work Group's recommendations.

Regulatory Flexibility Act

I certify that this regulation would not have a significant economic impact on a substantial number of small entities because it would affect only Federal agencies and employees.

List of Subjects in 5 CFR Part 532

Administrative practice and procedure, Freedom of information, Government employees, Reporting and recordkeeping requirements, Wages.

Office of Personnel Management.
Kay Coles James,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

§ 532.217 [Amended]

2. In § 532.217, paragraph (c) is amended by adding the job “Maintenance Mechanic” and grade “10” after Television Station Mechanic.

[FR Doc. 02-19463 Filed 7-31-02; 8:45 am]

BILLING CODE 6325-39-P